DEPARTMENT OF HEALTH AND HUMAN SERVICES

National Institutes of Health

Government-Owned Inventions; Availability For Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting Dale Berkley, Ph.D., J.D., at the Office of Technology Transfer, National Institutes of Health, 6011 Executive Boulevard, Suite 325, Rockville, Maryland 20852-3804; telephone: 301/496-7735 ext. 223; fax: 301/402-0220; e-mail: berkleyd@od.nih.gov. A signed Confidential Disclosure Agreement will be required to receive copies of the patent applications.

Automated Core Biopsy Instrument

Erik Kass, Carter Vanwaes (NIDCD), DHHS Reference No. E-269-00/0 filed 20 Sep 2000.

The invention is an automated core biopsy instrument that may be operated with one hand. The instrument has a single activation element that causes a stylet to advance into the tissue of interest as a cutting cannula disposed around the stylet is fired to shear off the tissue into specimen notches disposed in the stylet. The invention is constructed so that the stylet and cutting cannula may be separately driven and biased. The cocking mechanism of the automated core biopsy instrument is used to cock both the stylet assembly and cutting cannula assemblies against separate biasing springs. Manipulation of the cocking mechanism permits the exposure of tissue in the specimen notches when desired. The instrument has a locking mechanism that is used to prevent inadvertent firing of the automated core biopsy instrument.

EZ Navigator and EZ Forms Software

Andrew Schwartz, William K. Jones, Michelle R. Ugas, Ta-Jen Hu (CIT), DHHS Reference No. E-236-00/0.

The EZStart invention is a method of accessing a database management system that can be used to convert non-relational data to relational data and create and manage relational data over a network such as the Internet. The invention provides user-friendly access to data stored in a database management system, allowing users with little or no knowledge of database management systems to access, store and manage data using only a web browser. EZStart provides a generic platform from which any user can select, insert, update and delete data without creating a custom software application for each user. The invention automatically generates navigation and data forms, allowing access to a Relational Database Management System (RDBMS) while masking the complexity of the RDBMS. Using a function of EZStart coined EZNavigator, users can easily maneuver through the RDBMS, view lists of objects, drill-down into column, view and index definitions, and manage object privileges. A separate function of EZStart, known as EZForms, allows a user to select, insert, update and delete rows in tables. No Structured Query Language (SQL) knowledge is required to perform these functions, but advanced users can use EZForms to generate SQL into a text area for modification and execution of the SQL. The SQL can be saved into and retrieved from a repository.

Integrated Low Field MRI/RF EPRI for Co-Registering Imaging of In Vivo Physiology and Anatomy in Living Objects

Murali K. Cherukuri et al. (NCI), DHHS Reference No. E-120-99/0 filed 01 Nov 1999.

Obtaining physiological information in a non-invasive manner from living tissue will provide valuable information, rather than invasive methods that are sometimes not available and also may damage living tissue. EPRI (Electron Paramagnetic Resonance Imaging) is the technique to investigate physiological information such as oxygen imaging and pharmacokinetic imaging in a non-invasive manner after non-toxic infusion of the spin probe.

However, the disadvantage of EPRI is the lack of proper orientation of the physiological image with respect to anatomy. On the contrary, Magnetic Resonance Imaging (MRI) methods are excellent for providing images with fine anatomical detail, but are often not possible methods that provide physiological information co-registered with anatomy with clinically relevant resolution.

The current invention complements a MRI with EPRI methods to solve each method's problem described above. A low-field MRI(5-30 mT) module is integrated into an EPRI(5—20 mT) system to provide an MRI scout image to properly orient the EPRI physiological information with respect to anatomy (A common magnet/gradient coil assembly is used for both MRI and EPRI scans).

Therefore, the EPR images contain spectral information regarding the local physiological conditions such as oxygen status. This data, when overlaid with anatomical images of MRI (Magnetic Resonance Imaging), co-register anatomical MR images and EPR physiological images.

Dated: November 13, 2000.
Jack Spiegel,
Director, Division of Technology Development and Transfer, Office of Technology Transfer, National Institutes of Health.

[FR Doc. 00-29717 Filed 11-20-00; 8:45 am]

BILLING CODE 4140-01-P